DEPARTMENT OF COMMERCE

Patent and Trademark Office

Agency Information Collection Activities; Submission to the Office of Management and Budget for Review and Approval; Comment Request; Improving Customer Experience

AGENCY: United States Patent and Trademark Office, Department of Commerce.

ACTION: Notice; request for comment.

SUMMARY: The United States Patent and Trademark Office (hereafter “USPTO” or “Agency”) has the following proposed Information Collection Request—“Improving Customer Experience (OMB Circular A-11, Section 280 Implementation)”—under OMB review for approval under the Paperwork Reduction Act (PRA).

DATES: Submit comments on or before: October 15, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Requests for additional information should be directed to Drew Hall, Government Information Specialist, Office of the Chief Administrative Officer, via email to Drew.Hall1@uspto.gov, 571-270-1715.

SUPPLEMENTARY INFORMATION:

Title: Improving Customer Experience (OMB Circular A-11, Section 280 Implementation).

Abstract: Under the Government Service Delivery Improvement (GSDI) Act ¹ and the 21st Century Integrated Digital Experience Act,² along with OMB guidance, agencies are obligated to continually improve the services they provide the public and to collect qualitative and quantitative data from the public to do so.

¹ 5 U.S.C. 321-24.

² 44 U.S.C. 3501 note.

The purpose of this request is to facilitate the USPTO's ability to collect feedback from the public to continue to improve its services, thereby facilitating its compliance with statutory requirements and general principles of good governance.

The USPTO will only submit collections if they meet the following criteria:

• The collections are voluntary;

• The collections are low-burden for respondents (based on considerations of total burden hours or burden-hours per respondent) and are low-cost for both the respondents and the Federal Government;

• The collections are non-controversial, meaning they do not raise issues that warrant public comment;

• Any collection is targeted to the solicitation of opinions from respondents who have experience with the program or may have experience with the program in the near future;

• Personally identifiable information (PII) is collected only to the extent necessary and the Agency will comply with applicable legal and policy requirements to ensure its protection;

• Information gathered is intended to be used for general service improvement and program management purposes;

• The Agency will follow the procedures specified in any relevant OMB guidance for the required reporting to OMB of data from surveys; and

• With the exception of the reporting mentioned in the bullet immediately above, if the Agency intends to release journey maps, user personas, reports, or other data-related summaries stemming from this collection, the agency must include appropriate caveats around those summaries, noting that the sample size and response rates must be considered as the basis for any conclusions to be made. The Agency must submit the data summary itself (e.g., the report) and the caveat language mentioned above to OMB before it releases them outside the agency. OMB will engage in a passback process with the Agency.

Data

Type of Review: Renewal of an existing collection.

Affected Public: Individuals and Households, Businesses and Organizations (Private Sector), State, Local or Tribal Government.

Estimated Number of Respondents: Below is an estimate of the aggregate burden hours for this new collection.

Activities: Four types, namely: Screeners (e.g., distributed before or during a usability testing session or other kind of session); Question script for focus group, interview group, etc. Scripts for usability testing sessions are, in general, exempt from PRA review; Surveys to obtain feedback immediately following a transaction—Limited to 15 questions and 5 minutes max; Other surveys.

Average Number of Respondents per Activity: 1 response per respondent per activity.

Annual Responses: 1,101,500.

Average Minutes per Response: 3 minutes-90 minutes, dependent upon activity.

Burden Hours: USPTO requests 100,800 burden hours.

Request for Comments: The USPTO invites comments on: (a) Whether the proposed collection of information is necessary for the proper performance of the functions of the agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

Obtaining Copies of Proposals: Requesters may obtain a copy of the information collection documents from Drew Hall, Government Information Specialist, Office of the Chief Administrative Officer, via email at Drew.Hall1@uspto.gov.

Justin Isaac,
Information Collections Officer, Office of the Chief Administrative Officer, United States Patent and Trademark Office.

[FR Doc. 2025-17765 Filed 9-12-25; 8:45 am]

BILLING CODE P